ENVIRONMENTAL PROTECTION AGENCY

[ER-FRL-6681-3]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in FR dated April 7, 2006 (71 FR 17845).

Draft EISs

EIS No. 20060206, ERP No. D-FRC-E03015-MS, Clean Energy Liquefied Natural Gas (LNG) Import Terminal and Natural Gas Pipeline Facilities, Construction and Operation, U.S. Army COE Section 10 and 404 Permits, (FERC/EIS-0192D), Port of Pascagoula, Jackson County, MS.

Summary: EPA expressed environmental concerns about air quality impacts, dredged material disposal, environmental justice, and risk analysis. Rating EC2.

EIS No. 20060207, ERP No. D-FRC-E03016-MS, Casotte Landing Liquefied Natural Gas (LNG) Import and Interstate Natural Gas Transmission Facilities, Construction and Operation, U.S. Army COE Section 404 Permit, (FERC/EIS-0193D), near the City of Pascagoula, Jackson County, MS.

Summary: EPA expressed environmental concerns about air quality impacts, dredged material disposal, environmental justice, and risk analysis. Rating EC2.

EIS No. 20060354, ERP No. D-FHW-F40437-MN, Scott County State Aid Highway (CSAH) 21 Project, Extension from CSAH 42 in Prior Lake to CSAH 18 at Southbridge Parkway in Shakopee, U.S. Army COE Section 404 Permit, Scott County, MN.

Summary: EPA expressed environmental concerns about cumulative impacts to water quality and quantity, wetlands, aquatic resources, forest and wildlife habitat, and the Shakopee Mdewakanton Sioux Community, and requests further clarification on the range of alternatives. Rating EC2.

EIS No. 20060364, ERP No. D-BIA-L65523-WA, Spokane Tribes Integrated Resource Management Plan, Implementation, Stevens County, WA.

Summary: EPA expressed environmental concerns about water quality and quantity impacts. EPA also has concerns about use of the Midnite Mine site before contamination cleanup is completed and monitoring shows the site poses no further threats to human health and the environment. Rating EC1.

Final EISs

EIS No. 20060390, ERP No. F-FHW-D40327-PA, Southern Beltway Transportation Project, Improvement from US-22 in Robinson Township to Interstate 79 in South Fayette Township and Cecil Township, Funding and U.S. Army COE Section 404 Permit, Washington, Allegheny Counties, PA.

Summary: EPA does not object to the preferred alternative.

EIS No. 20060403, ERP No. F-AFS-K65310-CA, Freeman Project, Reduce Hazardous Fuel and Improving Forest Health, Implementation, Lake Recreation Area, Beckworth Ranger District, Plumas National Forest, Plumas County, CA.

Summary: EPA continues to express concerns about water and air quality impacts, and recommends consideration of Alternative 3 as the preferred alternative.

Dated: November 14, 2006.
Robert W. Hargrove,
Director, NEPA Compliance Division, Office of Federal Activities.

[FR Doc. E6-19472 Filed 11-16-06; 8:45 am]

BILLING CODE 6560-50-P